DEPARTMENT OF TRANSPORTATION

National Highway Traffic Safety Administration

49 CFR Part 575

[Docket No. NHTSA—03-15366]

Consumer Information Regulations; Uniform Tire Quality Grading Standards; Correction

AGENCY: National Highway Traffic Safety Administration, DOT.

ACTION: Correcting Amendment.

SUMMARY: On June 12, 2003, the National Highway Traffic Safety Administration published a correction to the treadwear testing procedures of the Uniform Tire Quality Grading Standards (UTQGS) (68 FR 35184). The section heading for § 575.104 contains a typographical error.

This document corrects the typographical error in the § 575.104 section heading.

DATES: Effective on July 22, 2003.

FOR FURTHER INFORMATION CONTACT: Mr. George Feygin, Office of Chief Counsel (Telephone: 202-366-2992) (Fax: 202-366-3820), 400 Seventh Street, SW., Washington, DC 20590.

SUPPLEMENTARY INFORMATION: On November 15, 1991, the National Highway Traffic Safety Administration (NHTSA) published a final rule amending the treadwear testing procedures of the Uniform Tire Quality Grading Standards (UTQGS) to permit the use of front-wheel drive passenger cars, as well as light trucks, and MPVs (56 FR 57988). Previously, UTQGS specified testing of tires using only rear-wheel drive passenger cars. The effective date of the amendment was December 16, 1991. However, this new language was later inadvertently deleted in an unrelated amendment. The document published on June 12, 2003 corrected NHTSA's inadvertent deletion of that regulatory language. However, the section heading for § 575.104 contained a typographical error. This document corrects the § 575.104 heading.

In FR Doc. 03-14693 published on June 12, 2003 (68 FR 35184) make the following correction. On page 35185, in the first column, the section heading is corrected to read as follows:

§ 575.104 Uniform tire quality grading standards.

Issued: July 16, 2003.
Stephen R. Kratzke,
Associate Administrator for Rulemaking.

[FR Doc. 03-18513 Filed 7-21-03; 8:45 am]

BILLING CODE 4910-59-P